NUCLEAR REGULATORY COMMISSION

[NRC-2011-0006]

Sunshine Act Meetings

DATE: Weeks of October 31, November 7, 14, 21, 28, December 5, 2011.

PLACE: Commissioners' Conference Room, 11555 Rockville Pike, Rockville, Maryland.

STATUS: Public and Closed.

Week of October 31, 2011

Tuesday, November 1, 2011

8:55 a.m. Affirmation Session (Public Meeting) (Tentative)

a. Final Rule: U.S. Advanced Boiling-Water Reactor Aircraft Impact Design Certification Amendment (RIN 3150-AI84) (Tentative).

This meeting will be Web cast live at the Web address— http://www.nrc.gov.

9 a.m. Briefing on the Fuel Cycle Oversight Program (Public Meeting) (Contact: Margie Kotzalas, (301) 492-3550)

This meeting will be webcast live at the Web address— http://www.nrc.gov.

Week of November 7, 2011—Tentative

There are no meetings scheduled for the week of November 7, 2011.

Week of November 14, 2011—Tentative

There are no meetings scheduled for the week of November 14, 2011.

Week of November 21 2011—Tentative

There are no meetings scheduled for the week of November 21, 2011.

Week of November 28, 2011—Tentative

Tuesday, November 29, 2011

9:30 a.m. Meeting with the Advisory Committee on Reactor Safeguards (ACRS) (Public Meeting)

(Contact: Tanny Santos, (301) 415-7270).

This meeting will be Webcast live at the Web address— http://www.nrc.gov.

Thursday, December 1, 2011

9:30 a.m. Briefing on Equal Employment Opportunity (EEO) and Small Business Programs (Public Meeting).

(Contact: Barbara Williams, (301) 415-7388).

This meeting will be Webcast live at the Web address— http://www.nrc.gov.

Week of December 5 2011—Tentative

There are no meetings scheduled for the week of December 5, 2011.

* * * * *

*The schedule for Commission meetings is subject to change on short notice. To verify the status of meetings, call (recording)—(301) 415-1292. Contact person for more information: Rochelle Bavol, (301) 415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at (301) 415-6200, TDD: (301) 415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 ((301) 415-1969), or send an email to darlene.wright@nrc.gov.

Dated: October 27, 2011.
Rochelle Bavol,
Policy Coordinator, Office of the Secretary.

[FR Doc. 2011-28384 Filed 10-28-11; 4:15 pm]

BILLING CODE 7590-01-P